DEPARTMENT OF ENERGY

Federal Energy Regulatory Commission

[Project Nos. 2403-048, 2534-068, 2666-023, 2712-055, and 2600-056]

PPL Maine, LLC; Bangor-Pacific Hydro Associates; Notice of Availability of Draft Environmental Assessment

November 3, 2004.

In accordance with the National Environmental Policy Act of 1969 and the Federal Energy Regulatory Commission (Commission or FERC) regulations contained in the Code of Federal Regulations (CFR) (18 CFR Part 380 [FERC Order No. 486, 52 F.R. 47897]), the Office of Energy Projects staff (staff) reviewed the applications for amendment of licenses for the Veazie Project, which is located on the Penobscot River in Penobscot County, Maine; the Milford Project, which is located on the Penobscot and Stillwater Rivers in Penobscot County, Maine; the West Enfield Project which is located on the Penobscot River in Penobscot County, Maine; the Stillwater Project, which is located on the Stillwater River in Penobscot County, Maine; and the Medway Project, which is located on the West Branch Penobscot River in Penobscot County, Maine, and prepared a draft environmental assessment (DEA) for the projects. In this DEA, staff analyzes the potential environmental effects of the proposed license amendments and concludes that the amendments would not constitute a major federal action significantly affecting the quality of the human environment.

A copy of the DEA is available for review at the Commission in the Public Reference Room, or it may be viewed on the Commission's Web site at http://www.ferc.gov using the “e-Library” link. Enter the docket number (P-2403) in the docket number field to access the document. For assistance, call (202) 502-8222 or (202) 502-8659 (for TTY).

Any comments should be filed by November 30, 2004, and should be addressed to Magalie R. Salas, Secretary, Federal Energy Regulatory Commission, 888 First Street, NE., Washington, DC 20426. Please reference the project names and numbers on all comments (p-2403-048 et al.). For further information, please contact Robert Fletcher at (202) 502-8901, or at robert.fletcher@ferc.gov.

Comments may be filed electronically via the Internet in lieu of paper. See 18 CFR 385.2001 (a)(1)(iii) and the instructions on the Commission's Web site at http://www.ferc.gov under the “e-Filing” link. The Commission strongly encourages electronic filings.

Magalie R. Salas,
Secretary.

[FR Doc. E4-3130 Filed 11-10-04; 8:45 am]

BILLING CODE 6717-01-P